DEPARTMENT OF LABOR

Employment and Training Administration

American Recovery and Reinvestment Act of 2009; Notice of Availability of Funds and Solicitation for Grant Applications for Energy Training Partnership Grants

Announcement Type: Notice of Solicitation for Grant Applications.

Funding Opportunity Number: SGA/DFA PY 08-18.

Catalog of Federal Domestic Assistance (CFDA) Number: 17.275.

DATES: The closing date for receipt of applications under this announcement is September 4, 2009. Applications must be received no later than 4 p.m. (Eastern Time), or submitted electronically by the deadline and in accordance with the instructions in Section IV.C of this Solicitation. A Webinar for prospective applicants will be held for this grant competition on July 13 from 2-3:30 p.m. ET. Access information for the Webinar will be posted on the U.S. Department of Labor's (DOL), Employment and Training Administration (ETA) Web site at: http://www.workforce3one.org. Potential applicants are encouraged to participate in this webinar, but attendance is not mandatory. A recording of the webinar will be available on http://www.workforce3one.org by 3 p.m. ET, July 17.

ADDRESSES: Mailed applications must be addressed to the U.S. Department of Labor, Employment and Training Administration, Division of Federal Assistance, Attention: Donna Kelly, Grant Officer, Reference SGA/DFA PY-08-18, 200 Constitution Avenue, NW., Room N4716, Washington, DC 20210. For complete “Application and Submission Information” please refer to Section IV.

SUMMARY: Under the American Recovery and Reinvestment Act of 2009 (the Recovery Act), DOL announces the availability of approximately $100 million in grant funds to 20-30 projects ranging from approximately $2 to $5 million each. Projects will provide training and placement services in the energy efficiency and renewable energy industries for workers impacted by national energy and environmental policy, individuals in need of updated training related to the energy efficiency and renewable energy industries, and unemployed workers. Proposed projects must be developed and implemented through strategic partnerships.

National, nonprofit labor management organizations and Statewide or local nonprofit entities are eligible to apply for grant funds under this SGA. Detailed eligibility information can be found in Section III.A.

A portion of the funds under this SGA will be reserved for projects serving communities undergoing auto industry related restructurings. Approximately $25 million of the total funds available through this Solicitation will be awarded for projects serving communities impacted by auto industry restructuring, though the Department reserves the right to change this amount depending on the quantity and quality of applications submitted under this SGA. See Attachment I for a list of auto-impacted communities.

SUPPLEMENTARY INFORMATION:

A. Recovery Act: Competitive Grants for Green Job Training

This section of the SGA provides general background on the American Recovery and Reinvestment Act of 2009 (Recovery Act), the competitive grants funded through the Recovery Act to prepare workers for careers in the energy efficiency and renewable energy industries, and the occupations and industries on which these grants should focus.

On February 17, 2009, President Barack Obama signed into law the Recovery Act through which Congress intended to preserve and create jobs, promote the nation's economic recovery, and assist those most impacted by the recession. Among other funding directed toward the Department of Labor (DOL), the Recovery Act provides $750 million for a program of competitive grants for worker training and placement in high growth and emerging industries. Of the $750 million allotted for competitive grants, the Recovery Act designates $500 million for projects that prepare workers for careers in the energy efficiency and renewable energy sectors described in Section 171(e)(1)(B) of the Workforce Investment Act (WIA). DOL intends to use a portion of the $500 million for providing technical assistance for this program of grants.

The purpose of these green job training grants is to train and teach workers the skills required in these emerging energy efficiency and renewable energy sectors. These efforts will lead program participants to job placement while leveraging other Recovery Act investments intended to create jobs and promote economic growth. For additional information about the series of competitive grants for green job training, please refer to Training and Employment Notice (TEN) 44-08 available at http://www.doleta.gov/Recovery/legislation.cfm.

B. Green Industries and Occupations

The Department will award grants to workforce development projects that focus on connecting target populations, including auto and auto-related industry workers affected by significant automotive-related restructurings, to career pathways in green industries. Training programs will prepare individuals for careers in any of the seven energy efficiency and renewable energy industries defined in Section 171(e)(1)(B)(ii) of the WIA, which include:

• The energy-efficient building, construction, and retrofit industries;

• The renewable electric power industry;

• The energy efficient and advanced drive train vehicle industry;

• The biofuels industry;

• The deconstruction and materials use industries;

• The energy efficiency assessment industry serving residential, commercial, or industrial sectors; and

• Manufacturers that produce sustainable products using environmentally sustainable processes and materials.

Additionally, the Department is interested in applicants contributing to our understanding of green industries and jobs that clean and enhance our environment. Initial research supported by the Department of Labor shows that there are “growth, enhanced and emerging” green occupations across a number of industries. Applicants may propose strategies that train for those occupations from among the following industries: Transportation; green construction; environmental protection; sustainable agriculture including healthy food production; forestry; and recycling and waste reduction (see O*NET report at http://www.onetcenter.org/reports/Green.html). The Department will consider proposals that focus on these occupations within these industries if applicants can offer supporting data demonstrating these are emerging industries which are producing jobs in their communities.

For the purpose of these SGAs, the Department defines energy efficiency and renewable energy as follows. Section 203(b)(2) of the Energy Policy Act of 2005, Public Law 109-58, 119 Stat. 595, defines “renewable energy” as “electric energy generated from solar, wind, biomass, landfill gas, ocean (including tidal, wave, current, and thermal), geothermal, municipal solid waste, or new hydroelectric generation capacity achieved from increased efficiency or additions of new capacity at an existing hydroelectric project.” “Energy efficiency” can be broadly defined as programs aimed at mitigating the use of energy, reducing harmful emissions, and decreasing overall energy consumption.

The Department of Labor's Bureau of Labor Statistics (BLS) is working to develop a definition for green sectors and jobs, which will be used to ensure that workforce development efforts identify and target these green jobs and their training needs. The Department has also supported occupational research that begins to define green jobs, review sectors impacted by green investments and understand how new green technology and materials will affect occupational requirements. The Occupational Information Network (O*NET) project has drafted a research paper titled, Greening of the World of Work: Implications for O*NET-SOC and New and Emerging Occupations. This study reflects three general categories of occupations, based on different consequences of green economy activities and technologies: (1) Existing occupations expected to experience primarily an increase in employment demand; (2) existing occupations with significant change to the work and worker requirements; and (3) new and emerging green occupations. This research may be used as a starting point for identifying green industries and occupations and informing the development of training and job placement programs. For a copy of the O*NET report and a listing of the identified occupations go to http://www.onetcenter.org/reports/Green.html.

C. Working With Other Recovery Act Programs

The Recovery Act made funds available to a number of other Federal programs that will impact the creation and expansion of green jobs. DOL is partnering with other Federal agencies to support the creation of jobs by developing a pipeline of skilled workers in the energy efficiency and renewable energy industries. Where possible, ETA encourages applicants to connect their workforce development strategies to other Recovery Act funded projects that create jobs or impact the skill requirements of existing jobs. ETA recommends that applicants review other parts of the Recovery Act, with a focus on the activities funded through the Department of Energy (Energy), the Environmental Protection Agency (EPA), the Department of Housing and Urban Development (HUD), the Department of Transportation (DOT), the Department of Education (Education) and others. For additional resources and information about our Federal partners, please see Section VIII, Additional Resources of Interest to Applicants.

I. Funding Opportunity Description

Energy Training Partnership funds are intended to provide training for workers that prepares them to enter the energy efficiency and renewable energy industries, as well as green occupations within other industries, as described in the Supplementary Information: Part B of this SGA. Individuals eligible for training include workers impacted by national energy and environmental policy, individuals in need of updated training related to the energy efficiency and renewable energy industries, and unemployed workers. A portion of the funds under this SGA will be reserved (as described in Section II, Award Information) for projects serving communities impacted by automotive-related restructuring.

Projects funded through this SGA will be implemented by partnerships made up of a diverse set of stakeholders including labor organizations, public or private employers in the energy efficiency and renewable energy industries, and the workforce system. Bringing to bear the workforce expertise of these groups will allow successful applicants to develop programs that are responsive to the needs of both workers and employers, and that provide participants with the support needed to successfully complete training.

The current economic downturn has had widespread effects on individuals in communities across the United States, and has left many workers seeking new careers. Workers impacted by national energy and environmental policy, individuals in need of updated training related to the energy efficiency and renewable energy industries, and unemployed workers face unique obstacles to gaining new employment. Many need to upgrade existing skills or learn new ones to transition into careers in high growth industries, but also need immediate employment to continue earning wages and supporting their families. This is particularly true of workers in communities adversely impacted by automotive industry restructuring.

All training and placement activities funded through this grant will be conducted at the local level. Successful applicants under category 1 (as described in Section III.A of this SGA) will be required to fund at least two (2) but no more than five (5) sub-grants or sub-contracts to State or local affiliates that will deliver grant-funded training and supportive services (where appropriate) to participants. Grant funded activities will be undertaken in collaboration with required partners detailed in Section III.C.1. This approach will help to ensure that workers at multiple sites will benefit from grant-funded training, and that sub-grantees or sub-contractors have adequate funding to implement effective projects. It will also enhance the coordination and efficiency of national organization-approved training programs being delivered at the local level.

To ensure quality training within a limited timeframe, applicants may develop and/or modify existing curricula and strategies to deliver training. Keeping in mind the long-term needs of workers, it is strongly recommended that training lead to portable industry degrees or certificates that assist participants to seek employment in multiple job markets.

II. Award Information

A. Award Amount: Under this SGA, ETA intends to fund approximately 20-30 grants ranging from $2 to $5 million. In an effort to fund the greatest number of high-quality projects, grant awards through this SGA will be limited to $5 million, and applicants requesting more than $5 million will be considered non-responsive. Within the funding ranges specified above, applicants are encouraged to submit proposals for quality projects at whatever funding level is appropriate to the project. Approximately $25 million of the total funds available through this Solicitation will be reserved for projects in communities impacted by automotive-related restructuring, though the Department reserves the right to change this amount depending on the quantity and quality of applications submitted under this SGA. See Attachment I for a list of counties impacted by automotive-related restructuring. The Center for Automotive Research identified the attached list of 281 U.S. counties that either have an automotive assembly plant or parts manufacturer employing regional residents.

B. Period of Performance: The period of grant performance will be up to 24 months from the date of execution of the grant documents. This performance period shall include all necessary implementation and start-up activities as well as participant follow-up.

Applicants should plan to fully expend grant funds during the period of performance while ensuring full transparency and accountability for all expenditures.

III. Eligibility Information

A. Eligible Applicants: Under this announcement, eligible applicants are private nonprofit organizations that must apply under one of two categories: (1) National labor-management organizations with local networks; or (2) Statewide or local nonprofit partnerships. All applicants are expected to work in conjunction with partnerships consisting of labor organizations, employers, Workforce Investment Boards (WIBs), and other organizations as defined in section 171(e)(2)(B)(ii) of WIA. These categories create two applicant pools, which will compete separately for funding under this SGA.

1. National Labor-Management Organizations: A national labor-management organization is a nonprofit entity, such as a training fund, training trust fund, or an education trust fund, with joint participation of employers and labor organizations on its executive board or comparable governing body. This entity must have a formalized agreement between the employer(s) and labor organization(s) to operate a joint labor management training program(s) in multiple sites across the country through the State, local, or regional networks affiliated with the nonprofit entity. The national labor-management organization is the lead applicant. However, if the national labor-management organization is not a separate legal entity, the labor organization is the eligible applicant. All grant-funded worker training activities will be delivered in the communities where project participants live and work. Therefore, national labor-management organizations are required to fund sub-grants or sub-contracts to local affiliates that will deliver the training as part of a strategic partnership as defined in Section III.C.1.

2. Statewide and Local Entities: Applicants for the State and local category are local or Statewide non-profit entities with a joint partnership of labor organizations, employers or industry organizations, Workforce Investment Boards and One Stop Career Centers. A Statewide or local entity that receives an award under category 2 of this SGA may not receive sub-grant or sub-contract funding from a national organization that receives an award under category 1. For the purposes of this SGA, the term “State” means each of the 50 States of the United States, the District of Columbia, and U.S. territories as defined in Section VI.B.

ETA expects to publish two SGAs during the summer of 2009: Energy Training Partnerships SGA [SGA/DFA PY 08-18] and the Pathways Out of Poverty SGA [SGA/DFA PY 08-19]. ETA will not fund any one organization as a grantee more than once through these two SGAs. An applicant may choose to submit an application for the Energy Training Partnerships SGA [SGA/DFA PY 08-18] and the Pathways Out of Poverty SGA [SGA/DFA PY 08-19]; however, DOL does not encourage applicants to submit applications to both competitions. An organization that submits an application for one SGA is not precluded from participating as a suggested or required partner in applications submitted in response to the other SGA. Finally, an organization may not submit multiple applications in response to any one SGA.

B. Cost Sharing: Cost sharing or matching funds are not required as a condition for application, but leveraged resources are strongly encouraged and may affect the applicant's score in section V.A.3 of the evaluation criteria.

D. Other Eligibility Requirements

1. Strategic Partnerships: Through strong and diverse partnerships, projects can maximize participants' opportunities for training that ultimately results in family-supporting employment. Therefore, successful applicants must propose partnerships that include representatives from: Labor organizations; Local Workforce Investment Boards and One Stop Career Centers; and employers or industry organizations.

i. Labor Organizations: Labor organizations may contribute to many aspects of grant activities, including identifying skills and competencies; developing new or modifying existing curricula; conducting occupation and skills training; and issuing industry-recognized degrees or certificates.

ii. Employers, Industry Organizations: In addition to providing contributions similar to those of labor organizations, employers and industry organizations can provide on-the-job work experiences, and may ultimately employ qualified program participants.

iii. Local Workforce Investment Boards and One Stop Career Centers: Local Workforce Investment Boards and One Stop Career Centers must be included as partners in all applications, but are not eligible applicants under this SGA. Local Workforce Investment Boards and One Stop Career Centers may provide a range of services including: Identifying, assessing, and referring candidates for training; connecting workers with employers; and providing support services for qualified individuals, where appropriate.

iv. Other suggested partners: In addition to the required partners above, applicants are strongly encouraged to include:

• The education and training community which includes the continuum of education from secondary schools to community and technical colleges, four year colleges and universities, registered apprenticeship training providers, technical and vocational training institutions, and other training entities;

• Federal partners such as DOL/ETA's Office of Apprenticeship or the appropriate State Apprenticeship Agency can assist in developing new or modifying existing training curricula and apprenticeship program standards.

• State partners including State energy offices, weatherization offices, State Environmental Protection Agencies (or equivalent), State Utility Boards and other State entities with experience in the renewable energy and energy efficiency industries.

• Faith-based and community-based organizations, which may provide supportive services to assist participants' successful completion of training and ultimately their employment in green jobs.

• Organizations implementing projects funded by the Recovery Act to create jobs in the energy efficiency or renewable energy industries that are in skilled workers to fill these positions.

D. Proposed Strategies: The purpose of this SGA is to fund projects that provide training and supportive services, as appropriate, that lead to employment in the energy efficiency and renewable energy industries. Projects using registered apprenticeship may provide workers with a source of income while they gain new skills and competencies. Therefore, applications funding registered apprenticeship and/or pre-apprenticeship strategies are strongly encouraged.

While this funding opportunity is available through the Recovery Act, the long term objective is to ensure that the workforce system continues to prepare workers for emerging careers in the green economy.

1. All proposed projects must incorporate training activities that:

i. Address skills and competencies demanded by the targeted industries;

ii. Support participants' advancement along a defined career pathway such as an articulated career ladder and/or lattice, if such a path exists in the targeted industry or industries;

iii. Take place at times and locations that are convenient and easily accessible for the targeted populations. This training can be accomplished through Distance Learning or Technology Based Learning in cases where these strategies benefit participants and allow the grantee to accomplish the objectives of this SGA.

iv. As appropriate, include paid work experience activities that allow participants to learn occupational skills on the job while earning wages, and which will lead to permanent employment in the targeted industry or industries;

v. Integrate training activities with supportive services to ensure that participants have the necessary support to overcome barriers to employment; and as appropriate, result in a pre-existing industry-recognized degree or certificate that indicates a level of mastery and competence in a given field or function.

2. In implementing projects that meet the requirements outlined above, applicants may propose a wide range of activities. When designing the proposed activities, DOL encourages applicants to look at program models with previous success in serving the priority populations targeted through this SGA, especially those with strong program evaluations showing positive impacts on participants. Allowable activities include:

i. Occupational training in energy efficiency and renewable energy industries;

ii. On-the-job and customized training in energy efficiency and renewable energy industries;

iii. Developing Registered Apprenticeship and pre-apprenticeship programs in energy efficiency and renewable energy industries;

iv. Supportive services that will allow individuals to participate in the direct training provided through the grant.

3. Applicants may propose projects that will use a small and reasonable portion of grant funds on the following activities which must support worker training and placement:

i. Instructor education and/or training for staff that will deliver and administer registered apprenticeship programs or other training and education programs that lead to employment;

ii. Where no appropriate curricula exist, develop or modify existing curricula to deliver training. Curricula developed with grant funds must be used during the period of performance as part of training strategies for participants served through grant-funded activities; and

iii. Where no appropriate apprenticeship guideline standards exist, develop or modify national guideline apprenticeship standards for programs in the energy efficiency and renewable energy industries.

iv. Where no appropriate industry-recognized degrees or certificates exist, develop processes for defining and issuing such degrees or certificates.

E. Other Grant Specifications

1. Participants Eligible to Receive Training: Projects funded through this SGA must give priority for training and other services to workers impacted by national energy and environmental policy, individuals in need of updated training related to the energy efficiency and renewable energy industries, unemployed workers, and veterans or past and present members of reserve components of the Armed Forces. Projects may also serve individuals with a criminal record; and populations that have not traditionally been employed in construction and skilled trades occupations, such as women and minorities. For specific definitions for these target populations, applicants must refer to Section VI.B. As part of the overall strategy for delivering green jobs training through the Recovery Act, ETA has issued the Pathways out of Poverty SGA, which directly targets projects that serve key participant populations within poverty areas such as disadvantaged workers.

2. Veterans Priority: The Jobs for Veterans Act (Pub. L. 107-288) provides priority of service to veterans and spouses of certain veterans for the receipt of employment, training, and placement services in any job training program directly funded, in whole or in part, by DOL. Grantees are required to provide priority of services for veterans and eligible spouses pursuant to 20 CFR part 1010, the regulations implementing priority of service for veterans and eligible spouses in Department of Labor job training programs under the Jobs for Veterans Act published at 73 FR 78132 on December 19, 2008. In circumstances where a grant recipient must choose between two equally qualified candidates for training, one of whom is a veteran, the Jobs for Veterans Act requires that grant recipients give the veteran priority of service by admitting him or her into the program. Please note that to obtain priority of service a veteran must meet the program's eligibility requirements. Grantees must comply with DOL guidance on veterans' priority. Currently, ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

3. Grantee Training: Grantees are required to participate in all DOL/ETA training activities related to orientation, financial management and reporting, performance reporting, product dissemination, and other technical assistance training as appropriate during the life of the grant. These trainings may occur via conference call, webinar, and in-person meetings. For budgeting purposes, applicants should include costs for three staff members to attend trainings that are each two full days in Washington DC during the grant's period of performance.

IV. Application and Submission Information

A. How To Obtain an Application Package: This SGA contains all of the information and links to forms needed to apply for grant funding.

B. Content and Form of Application Submission: The proposal will consist of three separate and distinct parts—a (I) cost proposal, a (II) technical proposal, and (III) attachments to the technical proposal. Applications that fail to adhere to the instructions in this section will be considered non-responsive and will not be considered. Please note that it is the applicant's responsibility to ensure that the funding amount requested is consistent across all parts and sub-parts of the application.

Part I. The Cost Proposal. The Cost Proposal must include the following four items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the authorized representative of the applicant.

• Applicants must supply their D-U-N-S® number on the SF 424. All applicants for Federal grant and funding opportunities are required to have a Data Universal Numbering System (D-U-N-S®) number. See Office of Management and Budget (OMB) Notice of Final Policy Issuance, 68 FR 38402, June 27, 2003. The D-U-N-S® number is a nine-digit identification number that uniquely identifies business entities. Obtaining a D-U-N-S® number is easy and there is no charge. To obtain a D-U-N-S® number, access this Web site: http://www.dunandbradstreet.com or call 1-866-705-5711.

• The SF 424A Budget Information Form (available at http://www07.grants.gov/agencies/forms_repository_information.jsp and http://www.doleta.gov/grants/find_grants.cfm). In preparing the Budget Information Form, the applicant must provide a concise narrative explanation to support the request, explained in detail below.

• Budget Narrative: The budget narrative must provide a description of costs associated with each line item on the SF-424A. It should also include leveraged resources provided to support grant activities. In addition, the applicant should address precisely how the administrative costs support the project goals. The entire Federal grant amount requested should be included on both the SF 424 and SF 424A (not just one year). No leveraged resources should be shown on the SF 424 and SF 424A. Please note that applicants that fail to provide a SF 424, SF 424A, a D-U-N-S® number, and a budget narrative will be removed from consideration prior to the technical review process.

• Applicants are also encouraged, but not required, to submit OMB Survey N. 1890-0014: Survey on Ensuring Equal Opportunity for Applicants, which can be found under the Gramts.gov, Tips and Resources From Grantors, Department of Labor section at http://www07.grants.gov/applicants/tips_resources_from_grantors.jsp#13 (also referred to as Faith Based EEO Survey PDF Form).

Part II. The Technical Proposal. The Technical Proposal will demonstrate the applicant's capability to implement the grant project in accordance with the provisions of this solicitation. The guidelines for the content of the Technical Proposal are provided in Part V.A of this SGA. The Technical Proposal is limited to 20 double-spaced single-sided pages with 12 point text font and 1 inch margins. Any materials beyond the 20-page limit will not be read. Applicants should number the Technical Proposal beginning with page number 1. Applicants that do not provide Part 2, the Technical Proposal of the application will be removed from consideration prior to the technical review process.

Part III. Attachments to the Technical Proposal. In addition to the 20-page Technical Proposal, the applicant must submit attachments to the technical proposal, which include a two-page abstract and a single letter of commitment for each local area or community where grant-funded training activities will occur that describes the roles and responsibilities of, and is signed by, each required partner. The commitment letters and abstract must accompany the application. Please note that applicants should not send letters of commitment separately to ETA because letters are tracked through a different system and will not be attached to the application for review. No support letters are permitted. National labor-management organization applicants must provide documentation clearly demonstrating participation of employers and labor organizations in the joint administration and governance of training programs to be funded through this SGA. The applicant must also provide an Abstract, not to exceed two pages, summarizing the proposed project including applicant name, project title, a description of the area to be served, including whether this is an urban, suburban, or rural area, the funding level requested, and the category of applicant: National labor-management organization or Statewide or local nonprofit entity. The abstract must also indicate whether one or more of the counties served by the proposed project appear on the attached list of counties impacted by automotive-related restructuring, which is included as Attachment I of this SGA. The applicant should indicate the total amount of grant funds that will be used for activities in those impacted counties.

These additional materials, (commitment letters and abstract) do not count against the 20-page limit for the Technical Proposal, but may not exceed 15 pages. Any additional materials (commitment letters and two-page abstract) beyond the 15-page limit will not be read.

Applications may be submitted electronically on Grants.gov or in hardcopy via mail or hand delivery. These processes are described in further detail in Section IV.C. Applicants submitting proposals in hardcopy must submit an original signed application (including the SF 424) and one (1) “copy-ready” version free of bindings, staples or protruding tabs to ease in the reproduction of the proposal by DOL. Applicants submitting proposals in hardcopy are also required to provide an identical electronic copy of the proposal on compact disc (CD).

C. Submission Process, Date, Times, and Addresses: The closing date for receipt of applications under this announcement is September 4, 2009. Applications must be received at the address below no later than 4 p.m. (Eastern Time). Applications sent by e-mail, telegram, or facsimile (FAX) will not be accepted.

Applications that do not meet the conditions set forth in this notice will not be honored. No exceptions to the mailing and delivery requirements set forth in this notice will be granted.

Mailed applications must be addressed to the U.S. Department of Labor, Employment and Training Administration, Division of Federal Assistance, Attention: Donna Kelly, Grant Officer, Reference SGA/DFA, PY 08-18, 200 Constitution Avenue, NW., Room N4716, Washington, DC 20210. Applicants are advised that mail delivery in the Washington area may be delayed due to mail decontamination procedures. Hand-delivered proposals will be received at the above address. All professional overnight delivery service will be considered to be hand-delivered and must be received at the designated place by the specified closing date and time.

Applicants may apply online through Grants.gov (http://www.grants.gov), however, due to the expected increase in system activity resulting from the American Recovery and Reinvestment Act of 2009, applicants are encouraged to use an alternate method to submit grant applications during this heightened period of demand. While not mandatory, DOL encourages the submission of applications thru professional overnight delivery service.

Applications that are submitted through Grants.gov must be successfully submitted at http://www.grants.gov no later than 4 p.m. (Eastern Time) on September 4, 2009, and then subsequently validated by Grants.gov. The submission and validation process is described in more detail below. The process can be complicated and time-consuming. Applicants are strongly advised to initiate the process as soon as possible and to plan for time to resolve technical problems if necessary.

It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is strongly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to use the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/e-mail_subscription_signup.jsp.

If applicants encounter a problem with Grants.gov and do not find an answer in any of the other resources, call 1-800-518-4726 to speak to a Customer Support Representative or e-mail “support@grants.gov”.

Late Applications: For applications submitted on Grants.gov, only applications that have been successfully submitted no later 4 p.m. (Eastern Time) on the closing date and successfully validated will be considered.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. Applicants take a significant risk by waiting to the last day to submit by grants.gov. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review: This funding opportunity is not subject to Executive Order 12372, “Intergovernmental Review of Federal Programs.”

E. Funding Restrictions: Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs: As specified in OMB Circular Cost Principles, indirect costs are those that have been incurred for common or joint objectives and cannot be readily identified with a particular final cost objective. In order to use grant funds for indirect costs incurred the applicant must obtain an Indirect Cost Rate Agreement with its Federal cognizant agency either before or shortly after grant award.

2. Administrative Costs: Under this SGA, an entity that receives a grant to carry out a project or program may not use more than 10 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal cognizant agency.

3. Use of Funds for Supportive Services: Supportive services for adults and workers impacted by national energy and environmental policy are defined at WIA sections 101(46) and 134(e)(2) and (3). They include services such as transportation, child care, dependent care, housing, and needs-related payments that are necessary to enable an individual to participate in training activities funded through this grant. Grantees may only use grant funds to provide these services to individuals who are participating in training services provided through the grant, that are unable to obtain services through other programs providing such services, and when such services are necessary to enable individuals to participate in these training activities. Grantees should ensure that their use of grant funds on supportive services is consistent with their established written policy regarding the provision of supportive services. Grantees may use no more than 5 percent of their grant funds on these services.

Applicants should be aware that certain WIA formula funds provided through the Recovery Act can be used for supportive services and successful applicants should seek to serve eligible participants through these sources.

4. Salary and Bonus Limitations: Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See Training and Employment Guidance Letter number 5-06 for further clarification: http://wdr.doleta.gov/directives/corr_doc.cfm?DOCN=2262.

5. Intellectual Property Rights: The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, the following needs to be on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Use of funds for wage subsidies: Grant funds awarded through this SGA shall not be used to subsidize the wages of program participants.

G. Other Submission Requirements: Withdrawal of Applications. Applications may be withdrawn by written notice at any time before an award is made.

V. Application Review Information

A. Evaluation Criteria: This section identifies and describes the criteria that will be used to evaluate the grant proposals. These criteria and point values are:

Criterion | Points
Statement of Need | 15
Project Management and Organizational Capacity | 15
Strategy and Project Work Plan | 50
Outcomes and Deliverables | 15
Suitability for Evaluation | 5

1. Statement of Need (15 points): Applicants must fully demonstrate a clear and specific need for the Federal investment in the proposed activities. Given the rapidly changing economic conditions, applicants should use the most current and relevant sources of data available.

Applicants must submit data and provide evidence for proposed projects in the local areas or communities where participants will be trained and employed. If applicable, Projects proposed to serve communities or train workers in the communities included on Attachment I that are undergoing auto industry related restructurings must make note of this in this section. Points for this section will be awarded based on a comprehensive demonstration of each of the following factors:

i. The applicant provides a complete description of the specific industries as defined in the SUPPLEMENTARY INFORMATION: Part B. of this SGA, and occupations within those industries on which their proposed training program will focus, including:

• The specific energy efficiency and/or renewable energy industry or industries;

• The specific occupation in that industry or industries for which participants will be trained, including the work performed and its major tasks; and

• The specific knowledge, skills, and/or abilities required by the occupation.

ii. The applicant presents a strong need for Federal funding of the proposed project by citing specific data sources and describing the analysis that has been conducted to clearly demonstrate the need for workforce training and the projected employment opportunities in the specific local areas or where grant-funded activities will take place, including:

• Current and projected employment in the targeted industries and occupations in the local area where grant-funded activities will actually be trained and placed; Identification of specific employers targeted to employ participants trained through grant-funded activities; and the current and projected hiring needs of these specific employers.

• Identification of the target population to be trained and placed in employment through grant-funded activities; in general, the educational attainment and skills possessed by the targeted populations; specific education, training and any other skill requirements of the occupations that will be targeted through this SGA, and an estimate of the skills gap between the two.

Applicants may draw from a variety of resources for supporting data, including: Traditional labor market information, such as projections; industry data from trade or industry associations, labor organizations, or direct information from the local employers or industry; information on the local and regional economy from economic development agencies; and other transactional data, such as job vacancies. As discussed at the beginning of this section, applications must include strong supporting evidence and data that are current, relevant, and specific to the local areas or communities where grant-funded training and placement activities will be conducted.

2. Project Management and Organizational Capacity (15 points): Applicants must fully describe the capacity of the applicant, its required partners and, if applicable, its local affiliates, coalition members, or other established partners, to effectively staff the proposed initiative. The application must also fully describe the applicant's fiscal, administrative, and performance management capacity to implement the key components of this project, and the track record of the applicant, its required partners, and, if applicable, its local affiliates, coalition members, or other established partners, in implementing projects of similar focus, size, and scope.

Scoring under this criterion will be based on the extent to which applicants provide evidence of the following:

i. Staff Capacity (5 points): Applicants should provide strong evidence that the applicant, its required partners, and, if applicable, its local affiliates, coalition members, or other established partners, will have the staff capacity to implement the proposed initiative, including the capacity in each designated community. Discussion should include:

• The proposed staffing pattern for the project, including program management and administrative staff, and program staff involved in each local project, which demonstrates that the role(s) and time commitment of the proposed staff are sufficient to ensure proper direction, management, implementation, and timely completion of each project.

ii. Fiscal, Administrative, and Performance Management Capacity (5 points): Strong evidence that the applicant, its required partners, and, if applicable, its local affiliates, coalition members, or other established partners, have the fiscal, administrative, and performance management capacity to effectively administer this grant. Discussion should include:

• A full description of the applicant's capacity, including its systems, processes, and administrative controls that will enable it to comply with Federal rules and regulations related to the grant's fiscal and administrative requirements.

• A full description of the applicants capacity, including its systems and processes that will support the grant's performance management requirements through effective tracking of performance outcomes. This should include an explanation of the applicant's processes to collect and manage data in a way that allows for accurate and timely reporting of performance outcomes. Applicants may partner with the public workforce system, as appropriate, to assist with performance reporting, and should describe access to specific data management software and/or resources for performance reporting.

iii. Experience of Applicant (5 points): The applicant's demonstrated experience leading or participating significantly in a comprehensive partnership, and the demonstrated experience of the applicant, its required partners, and, if applicable, its local affiliates, coalition members, or other established partners, in implementing and operating training, education, and job placement initiatives of similar focus, size and scope. Discussion should include:

• Specific examples of the applicant leading or participating significantly in a partnership that included a wide range of stakeholders, including a description of the programmatic goals of the project, and a demonstration of the results achieved by that project.

• Specific examples of the applicant's track record administering Federal, State, and/or local grants, including the programmatic goals and results from these projects; and

• A description of the experience of the applicant, its required partners, and, if applicable, its local affiliates, coalition members, or other established partners, in Federal, State, and/or local projects providing education, training, and placement services to the specific populations noted in Section III.E.1. (unemployed individuals, high school dropouts, individuals with criminal records, and disadvantaged workers within areas of high poverty), including the programmatic goals and results of the projects.

3. Strategy and Project Work Plan (50 points): This criterion is the heart of the proposal, and a successful score in this section will require the applicant to provide a very clear explanation of what their proposed strategy is and how they plan to implement it. The applicant must present a comprehensive work plan for the project, following the format provided later in this section. Points for this criterion will be awarded for the following factors:

i. Strategy (35 points): Up to 35 points may be awarded based on compelling evidence that the applicant has developed an effective project that fully addresses the needs of the workers and employers in the industries described in the SUPPLEMENTARY INFORMATION: Part B. of this SGA. Factors considered in evaluating the proposed strategies will include: (1) Comprehensiveness of the proposed workforce development strategies, (2) demonstrated feasibility for aligning partners to achieve the proposed training and employment outcomes, (3) demonstration of how the proposed project builds on existing work in order to expeditiously begin or expand training activities, and (4) a demonstration of how partnerships and training will be sustained beyond the life of the grant. In this section, applicants must:

• Summarize the proposed strategies and demonstrate how strategies address the needs and challenges of one or more of the energy efficiency and renewable energy industries and occupations discussed in the Statement of Need (10 points).

• Fully describe the specific roles of the project partners at all levels, including services, expertise, and activities that partners will contribute to successfully train and place workers in employment. Applicants should provide, for each local area served, a letter of commitment that describes the roles and responsibilities of, and is signed by each required partner (10 points).

• Fully describe proposed recruitment, training, placement, and retention strategies (10 points).

Recruitment: The applicant must provide a comprehensive outreach and recruitment strategy that defines a clear process for finding and referring workers to the training programs. Projects serving communities undergoing auto industry related restructurings must explain specifically how incumbent workers, individuals in need of updated training related to the energy efficiency and renewable energy industries, and unemployed auto workers will be referred to training.

Training: DOL encourages applicants to base their training strategies on program models that have shown promising outcomes for serving targeted populations. The applicant must provide a full and detailed explanation of the proposed training activities, including integration of supportive services, how the training will address skills and competencies demanded by the selected industries and occupations, and may lead to an appropriate industry-recognized degree or certificate (see definition in Section VI.B.2, Award Administration Information). Applicants must clearly identify the types of training to be provided (e.g. on-the-job training, customized training, pre-apprenticeship, registered apprenticeship), and the entities that will provide training for each specific local area where grant-funded activities will be conducted. Keeping in mind the requirement that training activities begin expeditiously, the applicant must fully explain how the project will replicate, adapt, or use components of existing curricula, or training models, including registered apprenticeship standards, that lead to industry-recognized degrees or certificates. Where industry-recognized degrees or certificates are not available for the proposed training activities, applicants should demonstrate how the project will provide participants with evidence of the skills and experience acquired through the grant-funded activities. Applicants proposing to develop new training curricula and strategies, registered apprenticeship standards, or other training models must fully articulate the need to engage in these activities as opposed to using or adapting existing curricula, registered apprenticeship standards, or training strategies or models, and must explain how these products will be used during the period of performance as part of training strategies for participants served through grant-funded activities.

Placement: The applicant must provide a clear strategy for placing participants into employment. The applicant should fully describe the approaches for engaging employers, identifying specific job needs, and referring participants to employers. Wherever possible, the applicant should identify specific employers that have made commitments to hire project participants that complete training. Applicants are encouraged to discuss linkages with regional projects funded by other Federal agencies through the Recovery Act that will generate employment opportunities and lead to placement for workers served through grant-funded activities.

Retention: The applicant must provide a clear retention strategy for participants that are placed into jobs. This should include strategies for engaging employers, as well as for identifying the barriers to employment that participants face after placement and for providing them with supportive services to address these barriers.

• Leveraged Resources (5 points): Applicants should clearly and fully describe any funds and other resources that will be leveraged to support grant activities and how these funds and other resources will be used to contribute to the proposed outcomes for the project, including any leveraged resources related to the provision of supportive services for program participants. This includes funds and other resources leveraged from businesses, labor organizations, education and training providers, and/or Federal, state, and local government programs. Applicants will be scored based on the extent to which they fully demonstrate the amount of leveraged resources provided, the type(s) of leveraged resources provided, the strength of commitment to provide these resources, the breadth and depth of the resources provided, and how well these resources support the proposed grant activities.

ii. Project Work Plan (15 points). Applicants can earn up to 15 points based on the presentation of a comprehensive project work plan based on reasonable performance estimates. Factors considered in evaluating the project work plan will include: (1) The presentation of a full and coherent plan that demonstrates the applicant's complete understanding of all the activities, responsibilities, and costs required to implement each phase of the project and achieve projected outcomes; (2) the demonstrated feasibility and reasonableness of accomplishing all necessary implementation activities, including the ability to begin or expand training expeditiously; and (3) the extent to which the budget aligns with the proposed work plan and is justified with respect to the adequacy and reasonableness of resources requested. Applicants must present the work plan in a table that includes the following information:

• Project Phases: Lay out the project in four phases: Startup (including development or modification of curriculum or apprenticeship standards, if appropriate), Recruitment, Training, Placement, and Retention.

• Activities: Fully identify the major activities required to implement each phase of the project. For each activity, include the following information: Start Date; End Date; and Partner Organization Responsibility. List the project partner(s) that will be primarily responsible for performing each activity.

• Milestones: List the target dates and associated training outcomes projected for recruitment, training, and placement activities.

• Budget Allocations: As accurately as possible, list the total amounts for each of the four project phases, including the sub-total budget dollar amount associated with each activity.

4. Outcomes and Deliverables (15 points): Applicants must clearly demonstrate a results-oriented approach to managing and operating their project by fully describing the proposed project goals. Applicants may earn up to 15 points for fully and comprehensively addressing each of the following areas.

i. Projected Performance Outcomes

Applicants must provide projections and track outcomes for each of the following outcome categories for all participants served with grant funds:

• Total participants served;

• Total number of participants beginning education/training activities;

• Total number of participants completing education/training activities;

• Total number of participants that complete education/training activities that receive a degree or certificate;

• Total number of participants that complete education/training activities that are placed into unsubsidized employment;

• Total number of participants that complete education/training activities that are placed into training-related unsubsidized employment; and

• Total number of participants placed in unsubsidized employment who retain an employed status at the first and second quarters following initial placement.

Please note that applicants will need to be prepared to collect participant-level data on individuals who receive training and other services provided through the grant. These data should be the basis for reporting against the outcomes listed above, and may be required for reporting on other employment-related outcomes in the future. ETA will provide appropriate technical assistance to the grantees in collecting these data, including the development of a participant tracking system for the grantees. Please note that in some cases, the data requested below may require appropriate partnerships with state and local workforce investment system entities.

Applicants will be required to collect participants' social security numbers as part of individual level data collection. Social security numbers will be used for the calculation of employment history and program outcomes. It is anticipated that by collecting social security numbers of participants, ETA will be able to calculate most employment outcomes administratively through the use of Unemployment Insurance wage record information. Applicants must ensure that social security numbers will be maintained in a secure and confidential manner.

Applicants should be prepared to collect and report participant-level data from the following categories:

• Demographic and socioeconomic characteristics

• Employment history

• Services provided

• Outcomes achieved

Applicants should describe their capacity to collect both participant level data and aggregate outcomes.

ii. Degrees or Certificates: Project activities leading to a degree or certificate must clearly identify the degree or certificate that participants will earn as a result of the proposed training, and the employer-, industry- or State-defined standards associated with the degree or certificate. If the degree or certificate targeted by the training project is performance-based, applicants should either (a) demonstrate employer engagement in the curriculum development process; or (b) demonstrate that the degree or certificate will translate into concrete job opportunities with an employer.

iii. Appropriateness and Feasibility. The appropriateness and feasibility of project outcomes will be assessed based on three factors: (1) The extent to which the expected project outcomes are clearly identified and measurable, realistic and consistent with the objectives of the project; (2) the ability and likelihood of the applicant to achieve the Stated outcomes and report results within the timeframe of the grant; and (3) the appropriateness of the outcomes with respect to the requested level of funding.

iv. Deliverables. If applicable, applicants must provide a comprehensive list of expected deliverables consistent with the project work plan that includes a brief description of the deliverable (such as new or updated curriculum or apprenticeship standards), the anticipated completion date, and an estimated timeframe and method for electronic delivery to ETA. Electronic delivery may include e-mail for smaller documents, DVDs or other electronic media for transmission of larger files.

5. Suitability for Evaluation (5 points).

Under this Solicitation, the Department of Labor seeks to support programs that will provide training that improves participants' employment outcomes. The Department is committed to evaluating program results to assess whether programs meet this goal and which models are most effective, providing a basis for future program improvements and funding decisions. The Department intends to select some portion of grantees to participate in a rigorous evaluation. This section asks for evidence that applicants will be able to participate productively in an evaluation. To receive points under this section, applicants must describe their plans for meeting the following criteria. Specifically, the project must:

• Explain a recruitment plan that could yield a large number of qualified applicants for the program, and potentially more applicants than the number of positions available;

• Be able to collect participant-level information on individuals who apply to participate in the program;

• Have project retention strategies to minimize client attrition and help researchers track those who leave the program before completion;

• Work collaboratively with an outside evaluator selected by the Department of Labor;

• Be willing to work with academics who are independent researchers qualified to conduct rigorous research; and,

• Provide additional information about why funding this proposal will enhance knowledge about effective programs in a way that has the potential to benefit individuals and communities not directly served by the program.

B. Review and Selection Process

Applications for grants under this solicitation will be accepted after the publication of this announcement until the closing date. A technical review panel will make careful evaluation of applications against the criteria. These criteria are based on the policy goals, priorities, and emphases set forth in this SGA. Up to 100 points may be awarded to an application, based on the required information described in Section V.A. The ranked scores will serve as the primary basis for selection of applications for funding, in conjunction with other factors such as geographic balance (including urban and rural balance); balance across the energy efficiency and renewable energy industries; representation across the two applicant pools; representation among communities impacted by automotive industry restructuring; and the availability of funds and which proposals are most advantageous to the government. The panel results are advisory in nature and not binding on the Grant Officer, and the Grant Officer may consider any information that comes to his/her attention. The government may elect to award the grant(s) with or without discussions with the applicants. Should a grant be awarded without discussions, the award will be based on the applicant's signature on the SF 424, which constitutes a binding offer by the applicant including electronic signature via E-Authentication on http://www.grants.gov.

VI. Award Administration Information

A. Award Notices: All award notifications will be posted on the ETA Homepage (http://www.doleta.gov). Applicants selected for award will be contacted directly before the grant's execution and non-selected applicants will be notified by mail.

Selection of an organization as a grantee does not constitute approval of the grant application as submitted. Before the actual grant is awarded, DOL/ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements: All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 and 98, and, where applicable, 29 CFR parts 96 and 99.

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The American Recovery and Reinvestment Act of 2009, Public Law 111-5, 123 Stat. 115, Division A, Title VIII (February 17, 2009).

ii. The Green Jobs Act of 2007, Public Law 110-140, 121 Stat. 1748 (codified at 29 U.S.C. 2916).

iii. The Workforce Investment Act of 1998, Public Law 105-220, 112 Stat. 939 (codified as amended at 29 U.S.C. 2801 et seq.) and 20 CFR part 667 (General Fiscal and Administrative Rules).

iv. 29 CFR part 29 & 30—Apprenticeship Equal Employment Opportunity in Apprenticeship and Training; and

v. 29 CFR part 37—Implementation of the Nondiscrimination and Equal Opportunity Provisions of the Workforce Investment Act of 1998.

• The Department notes that the Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

vi. Ensuring the Health and Safety of Participants Under WIA Section 181(a)(4)—Health and safety standards established under Federal and State law otherwise applicable to working conditions of employees are equally applicable to working conditions of participants engaged in training and other activities. Applicants that are awarded grants through this SGA are reminded that these health and safety standards apply to participants in these grants.

In accordance with Section 18 of the Lobbying Disclosure Act of 1995 (Pub. L. 104-65) (2 U.S.C. 1611) non-profit entities incorporated under Internal Revenue Service Code section 501(c) (4) that engage in lobbying activities are not eligible to receive Federal funds and grants. Except as specifically provided in this SGA, DOL/ETA's acceptance of a proposal and an award of Federal funds to sponsor any program(s) does not provide a waiver of any grant requirements and/or procedures. For example, the OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements.

i. Evaluation: To measure the impact of grants funded under the SGA, ETA intends to fund one or more independent evaluations, which could include a random-assignment impact evaluation. By accepting funding, grantees must agree to participate in such an evaluation, should their site(s) be selected to participate. Grantees must agree to make records on participants, employers, and funding available and to provide access to program personnel and participants, as specified by the evaluator(s) under the direction of ETA, including after the expiration date of the grant.

ii. Sustainability: Grantees must allow adequate time during the period of performance to conduct sustainability planning that involves the public workforce system and other key partners, where appropriate, to help ensure that their strategic partnership(s) and core training, placement, and retention activities, or labor market information and exchange activities, are sustained after the grant ends. Grantees will be required to submit a written sustainability plan to ETA prior to the end of the grant. Grantees are reminded that the expenditure of any grant funds on activities related to sustainability and sustainability planning must be consistent with the grantees' statement of work, and in accordance with all relevant rules and regulations that apply to their grants. When expending grant funds on activities related to sustainability and sustainability planning, grantees are reminded that they must adhere to Federal rules and regulations on outreach, fundraising, lobbying, and all other relevant and applicable rules and regulations.

iii. Definition of Certificate:—A certificate is awarded in recognition of an individual's attainment of measurable technical or occupational skills necessary to gain employment or advance within an occupation. These technical or occupational skills are based on standards developed or endorsed by employers. Certificates awarded by workforce investment boards are not included in this definition. Work readiness certificates are also not included in this definition. A certificate is awarded in recognition of an individual's attainment of technical or occupational skills by:

• A State educational agency or a State agency responsible for administering vocational and technical education within a State.

• An institution of higher education described in Section 102 of the Higher Education Act (20 U.S.C. 1002) that is qualified to participate in the student financial assistance programs authorized by Title IV of that Act. This includes community colleges, proprietary schools, and all other institutions of higher education that are eligible to participate in Federal student financial aid programs.

• A professional, industry, or employer organization (e.g., National Institute for Automotive Service Excellence certification, National Institute for Metalworking Skills, Inc., Machining Level I credential) or a product manufacturer or developer (e.g., Microsoft Certified Database Administrator, Certified Novell Engineer, Sun Certified Java Programmer) using a valid and reliable assessment of an individual's knowledge, skills, and abilities.

• A registered apprenticeship program.

• A public regulatory agency, upon an individual's fulfillment of educational, work experience, or skill requirements that are legally necessary for an individual to use an occupational or professional title or to practice an occupation or profession (e.g., FAA aviation mechanic certification, State certified asbestos inspector).

• A program that has been approved by the Department of Veterans Affairs to offer education benefits to veterans and other eligible persons.

• Job Corps centers that issue certificates.

• Institutions of higher education which are formally controlled, or have been formally sanctioned, or chartered, by the governing body of an Indian tribe or tribes.

iv. Definitions of Populations and Other Key Terms: Organizations submitting an application in response to this SGA should use the following definitions for any of the following populations and/or other key terms that are specifically identified in this SGA.

• High school drop-outs: For the purposes of this SGA, ETA defines “high school drop-out” as an individual who is no longer attending any secondary school and who has not received a secondary school diploma or its recognized equivalent.

• Individuals in need of updated training related to the energy efficiency and renewable energy industries: For the purposes of this SGA, this term refers to individuals who are currently employed; or were terminated or laid-off or have received a notice of termination or lay-off from employment; or were self-employed but are now unemployed; and can benefit from training that will help them enter or advance in the energy efficiency and renewable energy industries identified in WIA section 171(e)(1)(B)(ii), and/or will enable them to acquire or enhance skills needed to enter occupations within one or more of the “growth, enhanced, and emerging” green industries referenced in Supplementary Information: Part B of this SGA.

• Individuals, including at-risk youth, seeking employment pathways out of poverty and into economic self-sufficiency: For the purposes of this SGA, ETA defines this term as individuals who reside in high poverty areas (which are areas where the poverty rate is 15% or greater), have no or low incomes, and who can benefit from skill training that will help them enter or advance in the energy efficiency and renewable energy industries identified in WIA section 171(e)(1)(B)(ii), and/or will enable them to acquire or enhance skills needed to enter occupations within one or more of the “growth, enhanced, and emerging” green industries referenced in Supplementary Information: Part B of this SGA.

• Individuals with a criminal record: For the purposes of this SGA, ETA defines this term as an individual who is or has been subject to any stage of the juvenile or criminal justice process, for whom services under this Act may be beneficial; or who requires assistance in overcoming artificial barriers to employment resulting from a record of arrest or conviction. ETA includes individuals with a juvenile or criminal record in the definition for this term.

• Unemployed individuals: For the purposes of this SGA, ETA defines “unemployed individual” as an individual who is without a job and who wants and is available to work.

• Veterans: For the purposes of this solicitation, ETA follows the WIA definition of veteran under 29 U.S.C. 2801(49)(A), which defines the term “veteran” as “an individual who served in the active military, naval, or air service, and who was discharged or released from such service under conditions other than dishonorable.” Active military service includes full-time duty (other than full-time duty for training purposes) in Reserve components ordered to active duty, or in National Guard units called to Federal Service by the President.

• Workers impacted by national energy and environmental policy: For the purposes of this SGA, ETA defines this term as individuals who: (1) Are currently employed in an occupation in the utilities; transportation and warehousing; manufacturing; construction; mining, quarrying, and oil and gas extraction; or other sectors that have been adversely affected by national energy and environmental policies; and have received a notice of termination or lay-off from employment; or (2) were employed in an occupation in the utilities; transportation and warehousing; manufacturing; construction; mining, quarrying, and oil and gas extraction; or other sectors that have been adversely affected by national energy and environmental policies; and are now unemployed.

• National labor-management organization: A national labor-management organization is a nonprofit entity, such as a training fund, training trust fund, or an education trust fund, with joint participation of employers and labor organizations on its executive board or comparable governing body. This entity must have a formalized agreement between the employer(s) and labor organization(s) to operate a joint labor management training program(s) in multiple sites across the country through the state, local, or regional networks affiliated with the nonprofit entity.

• U.S. territories: For the purposes of this SGA, the term “U.S. territories” includes the Commonwealth of Puerto Rico, as well as the following outlying areas: the United States Virgin Islands, Guam, American Samoa, the Commonwealth of the Northern Mariana Islands, the Republic of the Marshall Islands, the Federated States of Micronesia, and the Republic of Palau.

3. American Recovery and Reinvestment Act of 2009 (Pub. L. 111-5) Provisions.

Prospective applicants are advised that, if they receive an award, they must comply with all requirements of the American Recovery and Reinvestment Act of 2009 [Pub. L. 111-5]. Applicants are advised to review the Act and implementing OMB guidance in the development of their proposals. Requirements include, but are not limited to:

i. Adherence to all grant clauses and conditions as they relate to Recovery Act activity.

ii. Prohibition on expenditure of funds for activities at any casino or other gambling establishment, aquarium, zoo, golf course or swimming pool.

iii. Compliance with the requirements to obtain a D-U-N-S® number and register with the Central Contractor Registry (CCR). ETA will issue additional guidance related to this requirement shortly.

iv. Submission of required reports in accordance with Section 1512 of the Recovery Act. These reports will be due quarterly within 10 days of the end of the reporting period and are in addition to the ETA required reports addressed in Section VI.C of this SGA. ETA will issue additional guidance related to these reports and their submission requirements shortly.

Implementing OMB guidance may be found at http://www.recovery.gov.

C. Reporting: Quarterly financial reports, quarterly progress reports, and MIS data will be submitted by the grantee electronically. The grantee is required to provide the reports and documents listed below:

• Quarterly Financial Reports. A Quarterly Financial Status Report (ETA 9130) is required until such time as all funds have been expended or the grant period has expired. Quarterly reports are due 45 days after the end of each calendar year quarter. Grantees must use DOL's On-Line Electronic Reporting System and information and instructions will be provided to grantees.

• Quarterly Performance Reports. The grantee must submit a quarterly progress report within 45 days after the end of each calendar year quarter. In order to submit these quarterly reports, grantees will be expected to track participant-level data regarding the individuals that are involved in training and other services provided through the grant and report on participant status in a variety of fields and outcome categories, as well as provide narrative information on the status of the grant. The last quarterly progress report that grantees submit will serve as the grant's Final Performance Report. This report should provide both quarterly and cumulative information on the grant's activities. It must summarize project activities, employment outcomes and other deliverables, and related results of the project, and should thoroughly document the training or labor market information approaches used by the grantee. DOL will provide grantees with formal guidance regarding data and other information that is required to be collected and reported on either a regular basis or special request basis. Grantees must agree to meet DOL reporting requirements.

• Record Retention. Applicants should be aware of Federal guidelines on record retention, which require grantees to maintain all records pertaining to grant activities for a period of not less than three years from the time of final grant close-out.

VII. Agency Contacts

For further information regarding this SGA, please contact Janice Sheelor, Grants Management Specialist, Division of Federal Assistance, at (202)-693-3538 (This is not a toll-free number). Applicants should e-mail all technical questions to Sheelor.Janice@dol.gov and must specifically reference SGA/DFA PY 08-18, and along with question(s), include a contact name, fax and phone number. This announcement is being made available on the ETA Web site at http://www.doleta.gov/grants and at http://www.grants.gov.

VIII. Additional Resources of Interest to Applicants

A. Other Web-Based Resources

DOL maintains a number of Web-based resources that may be of assistance to applicants. America's Service Locator (http://www.servicelocator.org) provides a directory of our nation's One Stop Career Centers.

B. Industry Competency Models

ETA supports an Industry Competency Model Initiative to promote an understanding of the skill sets and competencies that are essential to an educated and skilled workforce. A competency model is a collection of competencies that taken together define successful performance in a particular work setting. Competency models serve as a starting point for the design and implementation of workforce and talent development programs. To learn about the industry-validated models visit the Competency Model Clearinghouse (CMC) at http://www.careeronestop.org/CompetencyModel/. The CMC site also provides tools to build or customize industry models, as well as tools to build career ladders and/or lattices leading to career pathways.

C. Federal Collaboration

DOL encourages other Federal partners to recommend or require, where appropriate, that organizations receiving Recovery Act funding list jobs created with their State public labor exchange. The Department is developing specific strategies to link job listings, training opportunities and placement among programs funded by the Departments of Housing and Urban Development, Energy, and Education. Where the grantee is not the public workforce system, they are strongly encouraged to work with local One Stop Career Centers to make these connections.

D. Links to Federal Recovery Sites

For specific information on a range of Federal agency Recovery Act activities and funding opportunities, please access the following Web sites:

• Department of Education: http://www.ed.gov/policy/gen/leg/recovery/index.html

• Department of Energy: http://www.doe.gov/recovery

• Department of Housing and Urban Development: http://www.hud.gov/recovery

• Department of Transportation: http://www.dot.gov/recovery/

• Environmental Protection Agency: http://www.epa.gov/recovery

E. Promising Training Approaches

ETA encourages applicants to research promising training approaches in order to inform their proposals. The following list of Web sites provides a starting place for this research, but by no means should be considered a complete list:

• ETA's home site (http://www.doleta.gov) and the ETA Research Publication Database (wdr.doleta.gov/research/keyword.cfm).

• ETA's knowledge sharing site (http://www.workforce3one.org), including the “workforce solutions” section that contains over 6,000 additional resources applicants may find valuable in developing workforce strategies and solutions.

• The National Governors Association Center for Best Practices (http://www.nga.org).

• The National Association of State Workforce Agencies (http://www.workforceatm.org).

• The National Association of Workforce Boards (http://www.nawb.org).

IX. Other Information

OMB Information Collection No. 1225-0086

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Department of Labor, in the Office of Management and Budget, Room 10235, Washington, DC 20503. Please do not return the completed application to the OMB. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 19th day of June, 2009.
Donna Kelly,
Grant Officer, Employment and Training Administration.

[FR Doc. E9-14924 Filed 6-23-09; 8:45 am]

BILLING CODE 4510-FN-P